DEPARTMENT OF THE INTERIOR

National Park Service

[NPS-WASO-NRNHL-14541; PPWOCRADI0, PCU00RP14.R50000]

National Register of Historic Places; Notification of Pending Nominations and Related Actions

Nominations for the following properties being considered for listing or related actions in the National Register were received by the National Park Service before November 16, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by January 8, 2014. Before including your address, phone number, email address, or other personal identifying information in your comment, you should be aware that your entire comment—including your personal identifying information—may be made publicly available at any time. While you can ask us in your comment to withhold your personal identifying information from public review, we cannot guarantee that we will be able to do so.

Dated: November 25, 2013.
J. Paul Loether,
Chief, National Register of Historic Places/National Historic Landmarks Program.

Illinois

Cook County

Bush Temple of Music, 100 W. Chicago Ave., 800 N. Clark St., Chicago, 13001001

Stony Island Trust and Savings Bank Building, 6760 S. Stony Island Ave., Chicago, 13001002

Lake County

Waukegan Public Library, (Illinois Carnegie Libraries MPS) 1 N. Sheridan Rd., Waukegan, 13001003

Madison County

Salem Baptist Church, 2001 Seiler Rd., Alton, 13001004

Peoria County

Kickapoo Building, 726 W. Main St., Peoria, 13001005

St. Clair County

Broadview Hotel, 415 E. Broadway, East St. Louis, 13001006

Indiana

Clark County

Howes', Mitchell P., Lime Kiln and Quarry, (Lime Manufacturing Resources of Utica, Indiana MPS) Address Restricted, Utica, 13001007

Starkweather's, Samuel, Lime Kiln and Quarry, (Lime Manufacturing Resources of Utica, Indiana MPS) Address Restricted, Utica, 13001008

Tyler, Moses H., Company Lime Kiln and Quarry No. 1, (Lime Manufacturing Resources of Utica, Indiana MPS) Address Restricted, Utica, 13001009

Dearborn County

River View Cemetery, 3635 E. Laughery Creek Rd., Aurora, 13001011

La Porte County

Franklin Street Commercial Historic District, Bounded by Pine, 4th & 11th Sts., alley between Franklin & Washington Sts., Michigan City, 13001013

Lake County

Lincoln Street Historic District, Roughly bounded by Fillmore & Hayes Sts., 6th & 8th Aves., Gary, 13001012

Marshall County

Plymouth Southside Historic District, S. Michigan St. roughly bounded by Pennsylvania RR. & Oakhill Ave., Plymouth, 13001016

Noble County

Albion Courthouse Square Historic District, Roughly bounded by Highland, Oak & Hazel Sts., & alley E. of Orange St., Albion, 13001014

St. Joseph County

St. Patrick's Farm, 50651 Laurel Rd., South Bend, 13001015

Union County

Liberty Courthouse Square Historic District, Courthouse Sq, & adjacent blks. along Union & Market Sts., Liberty, 13001018

Liberty Residential Historic District, 28, 103-403 E. Union, 4-8 W. Seminary, 2-124 E. Seminary & 1-7 S. Fairground Sts., 2 & 102 College Corner Ave., Liberty, 13001017

Iowa

Johnson County

Sigma Pi Fraternity House, 108 McLean St., Iowa City, 13001019

Maryland

Baltimore Independent city

Waverly Main Street Historic District, Roughly bounded by E. 29th & E. 35th Sts., Old York Rd., Greenmount Ave., Baltimore (Independent City), 13001020

Nebraska

Madison County

Stubbs—Ballah House, 1000 Prospect Ave., Norfolk, 13001021

Phelps County

Farmers State Bank, 307 Commercial St., Loomis, 13001022

Richardson County

Falls City Commercial Historic District, Roughly Stone St. from 15th to 19th Sts., Falls City, 13001023

New Jersey

Sussex County

Lafayette Village Historic District, NJ 15, Morris Farm Rd. & Meadows Rd., Lafayette Township, 13001024

North Carolina

Brunswick County

Fort Caswell Historic District, 100 Caswell Beach Rd., Caswell Beach, 13001025

Durham County

Hillside Park High School, (Durham MRA) 200 E. Ulmstead St., Durham, 13001026

Mecklenburg County

Louise Cotton Mill, 1101 Hawthorne Ln., Charlotte, 13001027

Nash County

Valintine—Wilder House, 8194 Webb's Mill Rd., Spring Hope, 13001028

Vermont

Chittenden County

Duplex at 73-75 Sherman Street, (Burlington, Vermont MPS) 73-75 Sherman St., Burlington, 13001029

Washington

Spokane County

Anderson, Louise Chandler, House, 3003 S. Manito Blvd., Spokane, 13001030

Bauer, Harvey and Mary, House, 420 W. 22nd St., Spokane, 13001031

Whatcom County

Bellingham Herald Building, 1155 N. State St., Bellingham, 13001032

A request to move has been made for the following resource:

Illinois

Cook County

Rees, Harriet F., House, 2110 S. Prairie Ave., Chicago, 07000458

A request for removal has been made for the following resources:

Indiana

Allen County

Byron, Irene, Tuberculosis Sanatorium—Physicians' Residences, 12371 and 12407 Lima Rd., Fort Wayne, 04001316

Nebraska

Cheyenne County

Brownson Viaduct, NE Spur 17A over US 30 and UPRR tracks, .8 mi. NW of Brownson, Brownson, 92000747

Lancaster County

Ehlers Round Barn, S of NE 2, NE of Roca, Roca, 95000799

Olive Branch Bridge, W. Stagecoach Rd. over Olive Br., 1.7 mi. SW. of Sprague, Sprague, 92000739

Merrick County

Merrick County Courthouse, 18th St. between 15th & 16th Aves., Central City, 89002211

[FR Doc. 2013-30587 Filed 12-23-13; 8:45 am]

BILLING CODE 4312-51-P